DEPARTMENT OF COMMERCE

International Trade Administration

[C-469-818]

Ripe Olives From Spain: Final Results of Countervailing Duty Administrative Review; 2020; Correction

AGENCY: Enforcement and Compliance, International Trade Administration, Department of Commerce.

ACTION: Notice; correction.

SUMMARY: The U.S. Department of Commerce (Commerce) published a notice in the Federal Register of March 9, 2023, in which Commerce determined that certain producers/exporters of ripe olives from Spain received countervailable subsidies during the period of review January 1, 2020, through December 31, 2020. This notice corrects the final results as it pertains to the net countervailable subsidy rate for Aceitunas Guadalquivir S.L.U. and its cross-owned affiliates.

FOR FURTHER INFORMATION CONTACT: Mary Kolberg, AD/CVD Operations, Office I, Enforcement and Compliance, International Trade Administration, U.S. Department of Commerce, 1401 Constitution Avenue NW, Washington, DC 20230; telephone: (202) 482-1785.

SUPPLEMENTARY INFORMATION:

Correction

In the Federal Register of March 9, 2023, in FR Doc 2023-04851, on page 14606, in the second column, correct the name of producer/exporter, Aceitunas Guadalquivir, S.L., to Aceitunas Guadalquivir, S.L.U. and its cross-owned affiliates.¹

¹ Commerce found the following companies to be cross-owned with Aceitunas Guadalquivir, S.L.U.: Coromar Inversiones, S.L., AG Explotaciones Agricolas, S.L.U., and Grupo Aceitunas Guadalquivir, S.L.

Background

On March 9, 2023, Commerce published in the Federal Register the final results of the administrative review of the countervailing duty order on ripe olives from Spain.² We inadvertently omitted the names of Aceitunas Guadalquivir S.L.U.'s cross-owned affiliates.

² See Ripe Olives from Spain: Final Results of Countervailing Duty Administrative Review; 2020, 88 FR 14605 (March 9, 2023).

Notification to Interested Parties

This notice is issued and published in accordance with sections 751(a)(1) and 777(i)(1) of the Tariff Act of 1930, as amended, and 19 CFR 351.221(b)(5).

Dated: April 6, 2023.
Abdelali Elouaradia,
Deputy Assistant Secretary for Enforcement and Compliance.

[FR Doc. 2023-07622 Filed 4-11-23; 8:45 am]

BILLING CODE 3510-DS-P